DEPARTMENT OF COMMERCE

International Trade Administration

[A-533-843]

Certain Lined Paper Products From India: Antidumping Duty Administrative Review; 2010-2011

AGENCY: Import Administration, International Trade Administration, U.S. Department of Commerce.

SUMMARY: In response to requests from interested parties, the Department of Commerce (the Department) is conducting an administrative review of the antidumping duty order on certain lined paper products (CLPP) from India. The period of review is September 1, 2010, through August 31, 2011 and the review covers 57 producers/exporters of the subject merchandise. We have preliminarily found that sales of the subject merchandise have been made at prices below normal value.

DATES: Effective Date: October 9, 2012.

FOR FURTHER INFORMATION CONTACT: Cindy Robinson or James Terpstra, AD/CVD Operations, Office 3, Import Administration, International Trade Administration, U.S. Department of Commerce, 14th Street and Constitution Avenue NW., Washington, DC 20230; telephone (202) 482-3797 or (202) 482-3965, respectively.

Scope of the Order

The merchandise covered by this order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description, available in Antidumping Duty Orders: Certain Lined Paper Products from India, Indonesia and the People's Republic of China, 71 FR 56949 (September 28, 2006), remains dispositive.

Methodology

The Department has conducted this review in accordance with Section 751(a)(2) of the Tariff Act of 1930, as amended (the Act). Export prices and constructed export prices have been calculated in accordance with section 772 of the Act. Normal value is calculated in accordance with section 773 of the Act. In making these findings, we have relied, in part, on facts available and because one or more respondents did not act to the best of their ability to respond to the Department's requests for information, we have drawn an adverse inference in selecting from among the facts otherwise available. See sections 776(a) and (b) of the Act. In accordance with section 773(b) of the Act, we disregarded the below-cost sales of Riddhi in the most recent administrative review of this company completed before the initiation of this review. With regard to SAB, petitioners filed an allegation demonstrating that SAB made sales below the cost of production. Therefore, we have reasonable grounds to believe or suspect that Riddhi's and SAB's sales of the foreign like product under consideration for the determination of normal value in this review may have been made at prices below the cost of production (COP) as provided by section 773(b)(2)(A)(ii) of the Act. Accordingly, pursuant to section 773(b)(1) of the Act, we have conducted a COP analysis of Riddhi's and SAB's sales in India in this review. Based on this test, we disregarded certain sales made by Riddhi and SAB in their respective comparison markets which were made at below-cost prices.

For a full description of the methodology underlying our conclusions, please see the memorandum from Christian Marsh, Deputy Assistant Secretary for Antidumping and Countervailing Duty Operations, to Paul Piquado, Assistant Secretary for Import Administration, “Decision Memorandum for Preliminary Results of Antidumping Duty Administrative Review: Certain Lined Paper Products from India” (Preliminary Decision Memorandum), dated concurrently with these results and hereby adopted by this notice. The Preliminary Decision Memorandum is a public document and is on file electronically via Import Administration's Antidumping and Countervailing Duty Centralized Electronic Service System (IA ACCESS). IA ACCESS is available to registered users at http://iaaccess.trade.gov and in the Central Records Unit (CRU), room 7046 of the main Department of Commerce building. In addition, a complete version of the Preliminary Decision Memorandum can be accessed directly on the Internet at http://www.trade.gov/ia/. The signed Preliminary Decision Memorandum and the electronic versions of the Preliminary Decision Memorandum are identical in content.

Preliminary Results of the Review

As a result of this review, we preliminarily determine that the following weighted-average dumping margins exist for the period September 1, 2010, through August 31, 2011:

A. Calculated Rate for the Two Mandatory Companies

Manufacturer/Exporter | Weighted- average dumping margin (percent)
Riddhi Enterprises, Ltd. | 3.86
SAB International | 2.30

B. Rate for the Non-Selected, Cooperative Respondents

¹ This rate is a weighted average of the weighted-average dumping margins for the two mandatory respondents (weighted by the publicly-ranged U.S. sales quantities from Section A) for the period September 1, 2010, through August 31, 2011. See Memorandum to the File, titled, “Certain Lined Paper Products from India: Margin for Respondents Not Selected for Individual Examination,” from Cindy Robinson and Victoria Cho, Case Analysts, through James Terpstra, Program Manager, dated concurrent with these results.

Manufacturer/Exporter | Weighted- average dumping margin (percent) ¹
Abhinav Paper Products Pvt Ltd | 3.36
American Scholar, Inc. and/or I-Scholar | 3.36
A R Printing & Packaging India | 3.36
Akar Limited | 3.36
Apl Logistics India Pvt. Ltd. | 3.36
Artesign Impex | 3.36
Arun Art Printers Pvt. Ltd. | 3.36
Aryan Worldwide | 3.36
Bafna Exports | 3.36
Cargomar Pvt. Ltd. | 3.36
Cello International Pvt. Ltd. (M/S Cello Paper Products) | 3.36
Corporate Stationery Pvt. Ltd. | 3.36
Crane Worldwide Logistics Ind Pvt. | 3.36
Creative Divya | 3.36
D.D International | 3.36
Exel India (Pvt.) Ltd. | 3.36
Exmart International Pvt. Ltd. | 3.36
Expeditors International (India) Pvt/Expeditors Cargo Mgmnt Systems | 3.36
Fatechand Mahendrakumar | 3.36
FFI International | 3.36
Freight India Logistics Pvt. Ltd. | 3.36
Gauriputra International | 3.36
International Greetings Pvt. Ltd. | 3.36
Karur K.C.P. Packagings Ltd | 3.36
Kejriwal Paper Ltd. and Kejriwal Exports | 3.36
Lodha Offset Limited | 3.36
M.S. The Bell Match Company | 3.36
Magic International Pvt Ltd | 3.36
Mahavideh Foundation | 3.36
Marisa International | 3.36
Navneet Publications (India) Ltd. | 3.36
Orient Press Ltd. | 3.36
Paperwise Inc. | 3.36
Phalada Agro Research Foundations | 3.36
Premier Exports | 3.36
Raghunath Exporters | 3.36
Rajvansh International | 3.36
SAI Suburi International | 3.36
SAR Transport Systems | 3.36
SDV Intl Logistics Ltd. | 3.36
Seet Kamal International | 3.36
SGM Paper Products | 3.36
Shivam Handicrafts | 3.36
Soham Udyog | 3.36
Sonal Printers Pvt. Ltd. | 3.36
Super Impex | 3.36
Swati Growth Funds Ltd. | 3.36
Swift Freight (India) Pvt. Ltd | 3.36
V&M | 3.36
Yash Laminates | 3.36

C. AFA Rate ² for the Uncooperative Respondents

² See Preliminary Decision Memorandum for the selection of this rate.

Manufacturer/Exporter | Weighted- average dumping margin (percent)
Ampoules & Vials Mfg. Co. Ltd. | 36.27
AR Printing & Packaging (India) PVT | 36.27
Chitra Exports | 36.27
Diki Continental Exports | 36.27
Pioneer Stationery Pvt. Ltd. | 36.27

Disclosure and Public Comment

The Department intends to disclose to interested parties the calculations performed in connection with these preliminary results within five days of the date of publication of this notice.³ Pursuant to 19 CFR 351.309(c), interested parties may submit cases briefs not later than the later of 30 days after the date of publication of this notice. Rebuttal briefs, limited to issues raised in the case briefs, may be filed not later than five days after the date for filing case briefs.⁴ Parties who submit case briefs or rebuttal briefs in this proceeding are encouraged to submit with each argument: (1) A statement of the issue, (2) a brief summary of the argument, and (3) a table of authorities.⁵

³ See 19 CFR 351.224(b).

⁴ See 19 CFR 351.309(d).

⁵ See 19 CFR 351.309(c)(2) and (d)(2).

Pursuant to 19 CFR 351.310(c), interested parties who wish to request a hearing, or to participate if one is requested, must submit a written request to the Assistant Secretary for Import Administration, filed electronically via IA ACCESS within 30 days after the date of publication of this notice.⁶ Requests should contain: (1) The party's name, address, and telephone number; (2) the number of participants; and (3) a list of the issues to be discussed. Issues raised in the hearing will be limited to those raised in the respective case briefs. The Department will issue the final results of this administrative review, including the results of its analysis of the issues raised by the parties in any written briefs, not later 120 days after the date of publication of this notice, pursuant to section 751(a)(3)(A) of the Act.

⁶ See 19 CFR 351.310(c).

Assessment Rate

Upon issuance of the final results, the Department shall determine, and U.S. Customs and Border Protection (CBP) shall assess, antidumping duties on all appropriate entries covered by this review. For any individually examined respondents whose weighted-average dumping margin is above de minimis, we will calculate importer-specific ad valorem duty assessment rates based on the ratio of the total amount of dumping calculated for the importer's examined sales to the total entered value of those same sales in accordance with 19 CFR 351.212(b)(1).⁷ We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

⁷ In these preliminary results, the Department applied the assessment rate calculation method adopted in Antidumping Proceedings: Calculation of the Weighted-Average Dumping Margin and Assessment Rate in Certain Antidumping Proceedings: Final Modification, 77 FR 8101 (February 14, 2012).

The Department clarified its “automatic assessment” regulation on May 6, 2003. This clarification will apply to entries of subject merchandise during the POR produced by each respondent for which they did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for Riddhi and SAB, and the remaining 55 companies listed in the “Preliminary Result of the Review” section, will be the rate established in the final results of this administrative review; (2) for merchandise exported by manufacturers or exporters not covered in this administrative review but covered in a prior segment of the proceeding, the cash deposit rate will continue to be the company-specific rate published for the most recent period; (3) if the exporter is not a firm covered in this review, a prior review, or the original investigation, but the manufacturer is, the cash deposit rate will be the rate established for the most recent period for the manufacturer of the merchandise; and (4) the cash deposit rate for all other manufacturers or exporters will continue to be 3.91 percent, the all-others rate established in the investigation.⁸ These cash deposit requirements, when imposed, shall remain in effect until further notice.

⁸ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006).

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213.

Dated: October 1, 2012.
Paul Piquado,
Assistant Secretary for Import Administration.

Appendix I

List of Topics Discussed in the Preliminary Decision Memorandum

1. Summary

2. Background

a. Selection of Respondents for Individual Examination

b. Requests for Information

3. Scope of the Order

4. Discussion of the Methodology

a. Fair Value Comparisons

b. Export Price

c. Normal Value

i. Selection of Comparison Market

ii. Product Comparisons

iii. Calculation of Normal Value Based on Comparison Market Prices

iv. Level of Trade

v. Date of Sale

vi. Cost of Production Analysis

1. Calculation of COP

2. Test of Comparison Market Prices and COP

3. Results of COP Test

vii. Calculation of Normal Value Based on Constructed Value

d. Rate for Non-Selected Companies

e. Use of Facts Otherwise Available and Adverse Inferences

i. Uncooperative Respondents

ii. Selection of AFA Rate

f. Currency Conversion

Recommendation

[FR Doc. 2012-24814 Filed 10-5-12; 8:45 am]

BILLING CODE 3510-DS-P